DEPARTMENT OF COMMERCE

Foreign-Trade Zones Board

[Order No. 1748]

Approval for Extension of Subzone Status and Manufacturing Authority; Foreign-Trade Subzone 169A; Aso LLC (Adhesive Bandages); Sarasota County, FL

Pursuant to its authority under the Foreign-Trade Zones Act of June 18, 1934, as amended (19 U.S.C. 81a-81u), the Foreign-Trade Zones Board (the Board) adopts the following Order:

Whereas, the Manatee County Port Authority, grantee of Foreign-Trade Zone (FTZ) 169, has requested to indefinitely extend subzone status and manufacturing authority on behalf of Aso LLC (Aso) to perform adhesive bandage manufacturing within FTZ Subzone 169A in Sarasota County, Florida, (FTZ Docket 55-2011, filed 9/23/2010);

Whereas, notice inviting public comment has been given in the Federal Register (75 FR 59695, 9/28/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to extend the subzone and manufacturing authority for the production of adhesive bandages under zone procedures within Subzone 169A, as described in the application and Federal Register notice, is approved, subject to the FTZ Act and the Board's regulations, including Section 400.28.

Signed at Washington, DC this 31st day of March, 2011.
Ronald K. Lorentzen,
Deputy Assistant Secretary for Import Administration, Alternate Chairman, Foreign-Trade Zones Board.
Andrew McGilvray,
Executive Secretary.

[FR Doc. 2011-8443 Filed 4-7-11; 8:45 am]

BILLING CODE 3510-DS-P